DEPARTMENT OF ENERGY

Federal Energy Regulatory Commission

Combined Notice of Filings

Take notice that the Commission has received the following Natural Gas Pipeline Rate and Refund Report filings:

Filings Instituting Proceedings

Docket Numbers: RP12-233-000

Applicants: CenterPoint Energy Gas Transmission Company, LLC

Description: CEGTLLC—Discount Type Adjustment for Negotiated Rate Agreements to be effective 1/12/2012.

Filed Date: 12/12/11

Accession Number: 20111212-5111

Comments Due: 5 p.m. ET 12/27/11

Docket Numbers: RP12-234-000

Applicants: Transwestern Pipeline Company, LLC

Description: 2011 TW S&A Compliance Filing RP11-2576 to be effective 1/12/2012.

Filed Date: 12/12/11

Accession Number: 20111212-5165

Comments Due: 5 p.m. ET 12/27/11

Docket Numbers: RP12-235-000

Applicants: Gas Transmission Northwest LLC

Description: Reservation Charge Credit RP12-15 to be effective 1/12/2012.

Filed Date: 12/12/11

Accession Number: 20111212-5185

Comments Due: 5 p.m. ET 12/27/11

Docket Numbers: RP12-236-000

Applicants: Tuscarora Gas Transmission Company

Description: ACA Correction RP11-2435 to be effective 10/1/2011.

Filed Date: 12/13/11

Accession Number: 20111213-5120

Comments Due: 5 p.m. ET 12/27/11

Docket Numbers: RP12-237-000

Applicants: UGI LNG Inc.

Description: UGI LNG Tariff Filing to be effective 1/12/2012.

Filed Date: 12/13/11

Accession Number: 20111213-5167

Comments Due: 5 p.m. ET 12/27/11

Docket Numbers: RP12-238-000

Applicants: Gas Transmission Northwest LLC

Description: Gas Transmission Northwest LLC submits tariff filing per 154.203: Stipulation and Agreement RP11-2377 to be effective 1/1/2012.

Filed Date: 12/14/11

Accession Number: 20111214-5034

Comments Due: 5 p.m. ET 12/27/11

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-1566-008

Applicants: Tennessee Gas Pipeline Company, L.L.C.

Description: Scheduling Priorities Refiling & Associate w/RP11-1566-004 to be effective 2/1/2012.

Filed Date: 12/12/11

Accession Number: 20111212-5172

Comments Due: 5 p.m. ET 12/27/11

Docket Numbers: RP11-2417-001

Applicants: ANR Storage Company

Description: RP11-2417 Volume 2 Baseline Compliance to be effective 8/24/2011.

Filed Date: 12/12/11

Accession Number: 20111212-5189

Comments Due: 5 p.m. ET 12/27/11

Docket Numbers: RP12-15-002

Applicants: Gas Transmission Northwest LLC

Description: Pressure Commitments Compliance RP12-15 to be effective 11/11/2011.

Filed Date: 12/12/11

Accession Number: 20111212-5176

Comments Due: 5 p.m. ET 12/27/11

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 14, 2011.
Nathaniel J. Davis, Sr.,
Deputy Secretary

[FR Doc. 2011-32885 Filed 12-22-11; 8:45 am]

BILLING CODE 6717-01-P